DEPARTMENT OF STATE

[Delegation of Authority No. 379]

Delegation to the Assistant Secretary for Oceans and International Environmental and Scientific Affairs of Authorities Under Certain Marine Convention Implementing Acts

By virtue of the authority vested in me as Secretary of State, including Section 1 of the State Department Basic Authorities Act, as amended (22 U.S.C. 2651a), I hereby delegate to the Assistant Secretary for Oceans and International Environmental and Scientific Affairs the functions vested in the Secretary of State by the following:

1. Sections 204, 208(a), and 209(b) of P.L. 104-43, Title II, the Northwest Atlantic Fisheries Convention Act of 1995 (16 U.S.C. 5603, 5607(a), 5608(b)).

2. Sections 3(a), 4, and 5(a) of P.L. 98-445, the Eastern Pacific Tuna Licensing Act of 1984 (16 U.S.C. 972a(a), 972b, 972c(a)).

3. Sections 503(b), (c)(3)(A), (d)(1)(D), 504, and 509 of P.L. 109-479, Title V, the Western and Central Pacific Fisheries Convention Implementation Act (16 U.S.C. 6902(b), (c)(3)(A), (d)(1)(D), 6903, 6908).

The Assistant Secretary for Oceans and International Environmental and Scientific Affairs may, to the extent authorized by law, re-delegate to officers and employees under his or her direction and supervision any of the functions delegated herein.

Notwithstanding this delegation of authority, the Secretary, the Deputy Secretary, the Deputy Secretary for Management and Resources, and the Under Secretary for Economic Growth, Energy, and the Environment may at any time exercise any authority or function delegated by this delegation of authority.

Any act, executive order, regulation, or procedure subject to, or affected by, this delegation shall be deemed to be such act, executive order, regulation, or procedure as amended from time to time.

This delegation of authority shall be published in the Federal Register.

Dated: December 8, 2014.
John F. Kerry,
Secretary of State.

[FR Doc. 2014-30855 Filed 1-2-15; 8:45 am]

BILLING CODE 4710-09-P